DEPARTMENT OF COMMERCE

National Oceanic and Atmospheric Administration

Agency Information Collection Activities; Submission to the Office of Management and Budget (OMB) for Review and Approval; Comment Request; Marine Mammal Stranding Reports/Marine Mammal Rehabilitation Disposition Report/Human Interaction Data Sheet

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 7, 2024 during a 60-day comment period. This notice allows for an additional 30 days for public comments.

Agency: National Oceanic and Atmospheric Administration, Commerce.

Title: Marine Mammal Stranding Reports/Marine Mammal Rehabilitation Disposition Report/Human Interaction Data Sheet.

OMB Control Number: 0648-0178.

Form Number(s): NOAA Form 89-864.

Type of Request: Regular submission (1 year extension of a current information collection).

Number of Respondents: 400.

Average Hours per Response: 1 hour.

Total Annual Burden Hours: 8,675.

Needs and Uses: This request is for a 1 year extension of this previously approved data collection. An extension is requested in order to provide time for the program office to address revisions to the collection pursuant to a recent law. Under the Marine Mammal Protection Act (MMPA), the Secretary of Commerce (Secretary), who has delegated responsibility under this Act to the National Oceanic and Atmospheric Administration (NOAA) Assistant Administrator for Fisheries, is charged with the protection and management of marine mammals and is responsible for collecting information on marine mammal strandings, which will be compiled and analyzed, by region, to monitor species, numbers, conditions, and causes of illnesses and deaths of stranded animals. The Secretary is also responsible for collection of information on other life history and reference level data, including marine mammal tissue analyses, that would allow comparison of the causes of illness and deaths in stranded marine mammals by physical, chemical, and biological environmental parameters.

In addition, determinations must be made on the sustainability of population stocks, on the impact of fisheries and other human activities on marine mammals and endangered species, and on the health of marine mammals and related environmental considerations. NOAA's National Marine Fisheries Service (NMFS) has the responsibility to carry out these mandates.

Section 402(b) of the MMPA (16 U.S.C. 1421a) requires the Secretary to collect and update information on strandings. It further provides that the Secretary shall compile and analyze, by region, the species, numbers, conditions, and causes of illnesses and deaths in stranded marine mammals. Section 404 (a) of the MMPA (16 U.S.C. 1421c) mandates that the Secretary respond to unusual marine mammal mortality events. Without a historical baseline provided by marine mammal information collected from strandings, detection of such events could be difficult and the investigation could be impeded. Section 401(b) of the MMPA (16 U.S.C. 1421) requires NMFS to facilitate the collection and dissemination of reference data on the health of marine mammal populations in the wild and to correlate health with physical, chemical, and biological environmental parameters. In order to perform this function, NMFS must standardize data collection protocols for health and correlations. Data and samples collected from stranded animals are a critical part of the implementation of this mandate of the MMPA.

Specifically, the data from the Marine Mammal Stranding Report (MMSR) forms provide NMFS with information on the morphology, life history, biology, general health, health and stranding trends, causes of mortality, and distribution of marine mammal species. These data provide information which may help in making assessments on the status of population stocks. Recording data on gross mortalities may serve as an indicator that a particular population is impacted, threatened or at increased risk, and when provided in a timely manner, aid in dynamic management practices. Stranding data also provide an important baseline for detecting and monitoring the impacts of environmental phenomena, such as El Niño and Harmful Algal Blooms (HABs). Minor edits to the current version of the form are proposed, including beginning to collect live, entangled large whale data in this data collection and streamlining the confidence codes.

The Marine Mammal Rehabilitation Disposition Report (MMRDR) provides NMFS with information on the disposition of animals brought in for rehabilitation, the success of medical treatment, and the number of animals released. This information will assist the Agency in tracking marine mammals that move into captive display and in the monitoring of rehabilitation and release. The data will also be used to assess the burden on stranding network centers. This form will be filled out only in the case of live-stranded marine mammals. The form will be required from rehabilitation centers in all five NMFS Regions. Each of the NMFS regions approves and issues a Letter of Agreement (LOA) or other form of agreement to marine mammal rehabilitation centers under § 112(c) of the MMPA, which allows the Secretary to enter into agreements in order to fulfill the general purposes of the Act, and under § 403 of the MMPA, which provides specific authority to enter into such stranding response agreements. These data will be monitored as part of the Rehabilitation Facilities Inspection (RFI) program. No changes are proposed to this form.

The Human Interaction Data Sheet will provide NMFS with consistent and detailed information on signs of human interaction in stranded marine mammals. This form also includes a subjective section that allows the examiner to evaluate the likelihood that human interaction contributed to the stranding of the animal. This information will assist the Agency in tracking resource conflicts and will provide a solid scientific foundation for conservation and management of marine mammals. With a better understanding of interactions, appropriate measures can be taken to resolve conflicts and stranding data are the best source of information regarding the occurrence of different types of human interaction. No changes are proposed for this form.

Affected Public: State governments; not-for-profit institutions; business or other for-profits organizations.

Frequency: On occasion.

Respondent's Obligation: Mandatory.

Legal Authority: Marine Mammal Protection Act (MMPA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0178.

Sheleen Dumas,
Department PRA Clearance Officer, Office of the Under Secretary for Economic Affairs, Commerce Department.

[FR Doc. 2024-07896 Filed 4-12-24; 8:45 am]

BILLING CODE 3510-22-P